DEPARTMENT OF COMMERCE

National Oceanic and Atmospheric Administration

RIN 0648-XR75

Fisheries of the Northeastern United States; Essential Fish Habitat (EFH) Components of Fishery Management Plans (Northeast Multispecies, Atlantic Sea Scallop, Monkfish, Atlantic Herring, Skates, Atlantic Salmon, and Atlantic Deep-Sea Red Crab) 5-year Review

AGENCY: National Marine Fisheries Service (NMFS), National Oceanic and Atmospheric Administration (NOAA), Commerce.

ACTION: Supplemental notice of intent (NOI) to prepare an environmental impact statement (EIS).

SUMMARY: The New England Fishery Management Council (Council) is in the process of preparing a programmatic Environmental Impact Statement (EIS) and Omnibus Amendment to the fishery management plans (FMPs) for Northeast multispecies, Atlantic sea scallop, monkfish, Atlantic herring, skates, Atlantic salmon, and Atlantic deep-sea red crab. This NOI proposes that the Council will prepare one final EIS that incorporates all topics considered in the development of the Omnibus Amendment, rather than preparing a final Phase 1 EIS prior to completing work on Phase 2 topics. During this scoping period, the Council is seeking comments on its intent to not complete a Phase 1 Final EIS (FEIS), as well as comments on any new scientific information identified since the 2004 scoping period that is pertinent to the development of the Omnibus Amendment.

DATES: Written comments must be received on or before 5 pm EST, November 4, 2009.

ADDRESSES: You may submit comments by any of the following methods:

• E-mail: comments@nefmc.org.

• Mail: Paul J. Howard, Executive Director, New England Fishery Management Council, 50 Water Street, Newburyport, MA 01950.

• Fax: (978) 465-3116.

FOR FURTHER INFORMATION CONTACT: Paul J. Howard, Executive Director, New England Fishery Management Council (978) 465-0492.

SUPPLEMENTARY INFORMATION: The purpose of this notification is to alert the interested public of the Council's intent to revise the two-phased approach for the EIS associated with the Omnibus EFH Amendment, as proposed in the supplemental NOI dated September 9, 2005 (70 FR 53636). A complete description of the background and need for the Omnibus Amendment can be found in the original NOI dated February 24, 2004, (69 FR 8367) and is not repeated here. This two-phased approach called for the completion of a final EIS for the topics included in Phase 1, followed by the preparation of a draft Phase 2 EIS, and the merger of the two documents into a single final EIS, with sequential public review and comment, first on Phase 1, and then on Phases 1 and 2 combined. A notice of availability for the Phase 1 Draft EIS (DEIS) was published on April 6, 2007 (72 FR 17157).

As indicated in the September 9, 2005, NOI, the Council intended to complete the EFH Omnibus Amendment in two phases with one accompanying EIS. Phase 1 was to have included a review and update of EFH designations, consideration of habitat areas of particular concern (HAPC), an updated prey species list, an update of non-fishing impacts, and an update of research and information needs. Phase 2 was to have included an evaluation of the effects of fishing on EFH, and management measures to minimize the adverse effects of fishing on EFH across all FMPs. The process called for developing the two phases sequentially, with submission of draft and final EIS documents for Phase 1 prior to completion of Phase 2. Upon completion of Phase 2, a single EIS document incorporating both phases would then have been voted on by the Council and made available for public comment. Any final alternatives voted on by the Council during Phase 1 would have been subject to revision until completion of the final EIS. Since the phased approach was proposed, the Phase 1 alternatives were developed and analyzed, and a notice of availability for the Phase 1 DEIS was published in the Federal Register on April 6, 2007 (72 FR 17157). Public comments were accepted through May 21, 2007; however, a FEIS for Phase 1 has not been completed. Work to complete Phase 2 is ongoing.

The purpose of this NOI is to inform the interested public that the Council has determined that preparing a FEIS for Phase 1 is not practicable. Instead, the Council will wait until work on Phase 2 topics is finished and then prepare a single DEIS incorporating Phases 1 and 2. The elimination of this step in the process will give the Council additional time to complete the large number of proposed EFH maps for the numerous species and life stages included in the amendment. It will also allow for a more coordinated and comprehensive modification of the contents of Phases 1 and 2 so that they are more effectively integrated in the FEIS. In particular, proposed HAPC designations developed in Phase 1 could be modified to accommodate recent changes in the Council's discretionary authority to protect deep-sea corals from physical damage caused by fishing gear, as authorized in the Magnuson-Stevens Fishery Conservation and Management Act section 303(b)(2)(B). Alternatives pertaining to Phases 1 and 2 will be distinct in the combined DEIS, consistent with the approach proposed in 2005. Following public comment, the Council will select final alternatives and then prepare and submit a final EIS. The proposed sequence of events is described in Table 1.

Table 1. Milestones of Phased EFH Omnibus Amendment 2
Step | Event/Milestone | Status
1 | Council files modified Notice of Intent to explain the phased approach to the public. | Filed September 9, 2005
2 | Council considers topics outlined in Phase 1 and develops a range of alternatives. | Completed
3 | Council prepares DEIS that includes components of Phase 1. | Completed
4 | Public Hearings/Public Comment Period on Phase 1 DEIS. | Completed
5 | Council considers public comments and makes decisions on Phase 1 topics. | Considered at June and September 2007 Council meetings
6 | Council considers topics outlined in Phase 2 and develops a range of alternatives. | In progress
7 | Council prepares DEIS that includes components of Phase 2. | In progress
8 | Public Hearings/Public Comment Period on combined Phase 1/Phase 2 DEIS. | To be completed
9 | Council considers public comments and makes final decisions on Phase 1 and Phase 2 topics. | To be completed
10 | Council prepares and submits merged document to NMFS as a final, complete EIS/Magnuson Act FMP Amendment document. | To be completed
11 | NMFS reviews EIS and issues a record of decision. | To be completed

Authority: 16 U.S.C. 1801 et seq.

Dated: September 29, 2009.
Emily H. Menashes,
Acting Director, Office of Sustainable Fisheries, National Marine Fisheries Service.

[FR Doc. E9-23954 Filed 10-2-09; 8:45 am]

BILLING CODE 3510-22-S